FEDERAL EMERGENCY MANAGEMENT AGENCY

44 CFR Part 67

Final Flood Elevation Determinations

AGENCY: Federal Emergency Management Agency (FEMA).

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Michael M. Grimm, Acting Chief, Hazards Study Branch, Federal Insurance and Mitigation Administration, 500 C Street, SW., Washington, DC 20472, (202) 646-3461 or (e-mail) michael.grimm@fema.gov.

SUPPLEMENTARY INFORMATION: FEMA makes final determinations listed below of BFEs and modified BFEs for each community listed. The proposed BFEs and proposed modified BFEse were published in newspapers of local circulation and an opportunity for the community or individuals to appeal the proposed determinations to or through the community was provided for a period of 90 days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Administrator of the Federal Insurance and Mitigation Administration certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location of referenced elevation | *Elevation in feet (NGVD) modified | Communities affected
East Marley Creek:
Approximately 800 feet downstream of Wolf Road | *679 | FEMA Docket No. 7611, Mokena (Village) and Will County (Unincorporated Areas).
Just downstream of 104th Street | *686
Maps are available for inspection at the Village Hall, 11004 Carpenter Street, Mokena, Illinois.
Maps are available for inspection at the Land Use Department, Subdivision Engineering Division, 58 E. Clinton Street, Joliet, Illinois.
Elkhorn River:
Approximately 4,800 ft. downstream of 558th Avenue | *1498 | FEMA Docket No. 7611, Madison County, City of Tilden, Village of Meadow Grove, City of Norfolk, Village of Battle Creek.
Approximately 300 ft. upstream of Center Street/534th Avenue | *1657
Union Creek:
Approximately 1.9 miles upstream of 3rd Street | *1589 | Madison County.
Approximately 1.7 miles upstream of 3rd Street | *1588
Maps are available for inspection at Zoning Administration, 1112 Bonita Drive, Norfolk, Nebraska.
Maps are available for inspection at the City Clerk, 202 South Center, Tilden, Nebraska.
Maps are available for inspection at 102 South Second Street, Battle Creek, Nebraska.
Maps are available for inspection at 208 Main Street, Meadow Grove, Nebraska.
Maps are available for inspection at 701 Koeningstein Avenue, Norfolk, Nebraska.
Indian Creek:
Just upstream of Three Locks Road | *610 | FEMA Docket NO. 7611, Ross County (Unincorporated Areas).
Just downstream of confluence of Rozelle Creek | *668
Little Salt Creek:
Approximately 1,000 feet upstream of its confluence with Salt Creek | *602
Little Salt Creek:
Approximately 800 feet downstream of the Ross/Jackson county boundary | *602 | FEMA Docket No. 7611, Ross County (Unincorporated Areas).
Middle Fork Salt Creek:
Just upstream of the confluence with Salt Creek | *600 | FEMA Docket No. 7611, Ross County (Unincorporated Areas).
Approximately 1,000 feet upstream of the confluence of Little Salt Creek | *602
Paint Creek:
Approximately 1,900 feet upstream of State Route 104 | *612 | FEMA Docket No. 7611 Ross County (Unincorporated Areas) City of Chillicothe, Village of Bainbridge.
Just downstream of Jones Levee Road | *683
Rozelle Creek:
Just upstream of the confluence with Indian Creek | *668 | FEMA Docket No. 7611, Ross County (Unincorporated Areas).
Approximately 1,700 feet above the confluence with Indian Creek | *684
Salt Creek:
Just upstream of CSX Railroad | *590 | FEMA Docket No. 7611, Ross County (Unincorporated Areas).
Just downstream of the confluence with Middle Fork Salt Creek | *600
Scioto River:
Approximately 0.1 mile upstream of Main Street | *619 | FEMA Docket No. 7611, Ross County (Unincorporated Areas) City of Chillicothe.
Approximately 3.2 miles upstream of U.S. Highway 35 | *631
Maps are available for inspection at the Ross County Engineering Building, 755 Fairgrounds Road, Chillicothe, Ohio.
Maps are available for inspection at the Village of Bainbridge, City Office, 118 East Main Street, Bainbridge, Ohio.
Maps are available for inspection at the City of Chillicothe, Administration Building, 35 South Paint Street, Chillicothe, Ohio.
* National Geodetic Vertical Datum.

(Catalog of Federal Domestic Assistance No. 83.100, “Flood Insurance”)
Dated: November 13, 2002.
Anthony S. Lowe,
Administrator, Federal Insurance and Mitigation Administration.

[FR Doc. 02-29963 Filed 11-25-02; 8:45 am]

BILLING CODE 6718-04-P